DEPARTMENT OF ENERGY

Federal Energy Regulatory Commission

Combined Notice of Filings #1

Take notice that the Commission received the following electric corporate filings:

Docket Numbers: EC19-101-000.

Applicants: Dominion Energy South Carolina, Inc.

Description: Supplement to June 13, 2019 Application for Authorization Under Section 203 of the Federal Power Act of Dominion Energy South Carolina, Inc. under EC19-101.

Filed Date: 8/29/19.

Accession Number: 20190829-5211.

Comments Due: 5 p.m. ET 9/19/19.

Docket Numbers: EC19-132-000.

Applicants: Virginia Electric and Power Company, Allegheny Generating Company.

Description: Joint Application for Authorization Under Section 203 of the Federal Power Act, et al. of Virginia Electric and Power Company, et al.

Filed Date: 8/30/19.

Accession Number: 20190830-5302.

Comments Due: 5 p.m. ET 9/20/19.

Docket Numbers: EC19-133-000.

Applicants: SR Hazlehurst III, LLC.

Description: Application for Authorization Under Section 203 of the Federal Power Act, et al. of SR Hazlehurst III, LLC.

Filed Date: 8/30/19.

Accession Number: 20190830-5312.

Comments Due: 5 p.m. ET 9/20/19.

Docket Numbers: EC19-134-000.

Applicants: Wilkinson Solar LLC.

Description: Application for Authorization Under Section 203 of the Federal Power Act, et al. of Wilkinson Solar, LLC.

Filed Date: 8/30/19.

Accession Number: 20190830-5319.

Comments Due: 5 p.m. ET 9/20/19.

Take notice that the Commission received the following exempt wholesale generator filings:

Docket Numbers: EG19-177-000.

Applicants: Lily Solar LLC.

Description: Notice of Self-Certification of Exempt Wholesale Generator Status of Lily Solar LLC.

Filed Date: 8/30/19.

Accession Number: 20190830-5287.

Comments Due: 5 p.m. ET 9/20/19.

Docket Numbers: EG19-178-000.

Applicants: Lily Solar Lessee, LLC.

Description: Notice of Self-Certification of Exempt Wholesale Generator Status of Lily Solar Lessee, LLC.

Filed Date: 8/30/19.

Accession Number: 20190830-5288.

Comments Due: 5 p.m. ET 9/20/19.

Take notice that the Commission received the following electric rate filings:

Docket Numbers: ER11-2175-002; ER12-224-003; ER17-767-002; ER17-765-002; ER11-3188-002; ER12-225-003; ER12-2301-002; ER11-2176-001; ER17-764-002.

Applicants: SGE Energy Sourcing, LLC, Stream Energy Columbia, LLC, Stream Energy Delaware, LLC, Stream Energy Illinois, LLC, Stream Energy Maryland, LLC, Stream Energy New Jersey, LLC, Stream Energy New York, LLC, Stream Energy Pennsylvania, LLC, Stream Ohio Gas & Electric, LLC.

Description: Notification of Change in Status of the Stream MBR Sellers under ER11-2175, et al.

Filed Date: 9/3/19.

Accession Number: 20190903-5131.

Comments Due: 5 p.m. ET 9/24/19.

Docket Numbers: ER19-2380-001.

Applicants: Midcontinent Independent System Operator, Inc.

Description: Tariff Amendment: 2019-09-03_SA 3228 IPL-ITC Midwest Substitute 1st Rev GIA (J495) to be effective 6/26/2019.

Filed Date: 9/3/19.

Accession Number: 20190903-5046.

Comments Due: 5 p.m. ET 9/24/19.

Docket Numbers: ER19-2726-000.

Applicants: Invenergy Wilkinson Solar Holdings LLC.

Description: Baseline eTariff Filing: Application for Market-Based Rate Authorization to be effective 10/1/2019.

Filed Date: 8/30/19.

Accession Number: 20190830-5268.

Comments Due: 5 p.m. ET 9/20/19.

Docket Numbers: ER19-2726-001.

Applicants: Invenergy Wilkinson Solar Holdings LLC.

Description: Tariff Amendment: Supplement to Application for Market-Based Rate Authorization to be effective 10/1/2019.

Filed Date: 9/3/19.

Accession Number: 20190903-5013.

Comments Due: 5 p.m. ET 9/24/19.

Docket Numbers: ER19-2727-000.

Applicants: California Independent System Operator Corporation.

Description: § 205(d) Rate Filing: 2019-08-30 Commitment Costs and Default Energy Bid Enhancements to be effective 12/31/2019.

Filed Date: 8/30/19.

Accession Number: 20190830-5276.

Comments Due: 5 p.m. ET 9/20/19.

Docket Numbers: ER19-2728-000.

Applicants: Lily Solar LLC.

Description: Baseline eTariff Filing: Market-Based Rate Application to be effective 10/30/2019.

Filed Date: 9/3/19.

Accession Number: 20190903-5000.

Comments Due: 5 p.m. ET 9/24/19.

Docket Numbers: ER19-2729-000.

Applicants: Lily Solar Lessee, LLC.

Description: Baseline eTariff Filing: Market-Based Rate Application to be effective 10/30/2019.

Filed Date: 9/3/19.

Accession Number: 20190903-5002.

Comments Due: 5 p.m. ET 9/24/19.

Docket Numbers: ER19-2730-000.

Applicants: Southwest Power Pool, Inc.

Description: § 205(d) Rate Filing: 3596 Tenaska Clear Creek Wind Facilities Construction Agr to be effective 8/30/2019.

Filed Date: 9/3/19.

Accession Number: 20190903-5069.

Comments Due: 5 p.m. ET 9/24/19.

Docket Numbers: ER19-2731-000.

Applicants: Avista Corporation.

Description: Avista Corporation submits Average System Cost Filing for Sales of Electric Power to the Bonneville Power Administration, FY 2020-2021.

Filed Date: 8/30/19.

Accession Number: 20190830-5301.

Comments Due: 5 p.m. ET 9/20/19.

Docket Numbers: ER19-2732-000.

Applicants: PJM Interconnection, L.L.C.

Description: § 205(d) Rate Filing: Original WMPA SA No. 5460; Queue No. AE2-304 to be effective 8/5/2019.

Filed Date: 9/3/19.

Accession Number: 20190903-5085.

Comments Due: 5 p.m. ET 9/24/19.

Take notice that the Commission received the following electric securities filings:

Docket Numbers: ES19-49-000.

Applicants: AEP Texas Inc.

Description: Application under Section 204 of the Federal Power Act for Authorization to Issue Securities of AEP Texas Inc.

Filed Date: 9/3/19.

Accession Number: 20190903-5120.

Comments Due: 5 p.m. ET 9/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: September 3, 2019.
Nathaniel J. Davis, Sr.,
Deputy Secretary.

[FR Doc. 2019-19425 Filed 9-6-19; 8:45 am]

BILLING CODE 6717-01-P